DEPARTMENT OF DEFENSE

Department of the Navy

Notice of Intent To Grant an Exclusive License; First Line Technology, L.L.C.

AGENCY: Department of the Navy, DoD.

ACTION: Notice.

SUMMARY: The Department of the Navy hereby gives notice of its intent to grant to First Line Technology, L.L.C. located at 3656 Centerview Drive, Suite 4, Chantilly, Virginia 20151, a revocable, nonassignable, exclusive license throughout the United States (U.S.), the Government-owned inventions described in U.S. Patent No. 7,064,241: Chemical and Biological Decontaminating Solution Using Peracids and Germinants in Microemulsions, Process and Product Thereof issued June 20, 2006, Navy Case No. 84,658//U.S. Patent No. 7,185,594: Aqueous Based Chemical and Biological Warfare Decontaminating System for Extreme Temperature Applications issued May 18, 2010, Navy Case No. 97,750//U.S. Patent No. 7,829,520: Aqueous Based Chemical and Biological Warfare Decontaminating System for Extreme Temperature Applications” issued November 9, 2010, Navy Case No. 100,367.

DATES: Anyone wishing to object to the grant of this license must file written objections along with supporting evidence, if any, not later than January 31, 2015.

ADDRESSES: Written objections are to be filed with the Naval Surface Warfare Center, Dahlgren Division (NSWCDD), Attention Lorraine Harting, Code 00T1, 17632 Dahlgren Road, Suite 201, Dahlgren, VA 22448-5154.

FOR FURTHER INFORMATION CONTACT: Lorraine Harting, 540-653-2680, lorraine.harting@navy.mil, NSWCDD, 17632 Dahlgren Road, Suite 201, Dahlgren, VA 22448-5154.

Authority: 35 U.S.C. 207, 37 CFR part 404.

Dated: January 12, 2015.
N. A. Hagerty-Ford,
Commander, Office of the Judge Advocate General, U.S. Navy, Federal Register Liaison Officer.

[FR Doc. 2015-00684 Filed 1-16-15; 8:45 am]

BILLING CODE 3810-FF-P